DEPARTMENT OF DEFENSE

Office of the Secretary

Proposed Collection; Comment Request

AGENCY: Defense Security Service.

ACTION: Notice.

In compliance with Section 3506(c)(2)(A) of the Paperwork Reduction Act of 1995, the Defense Security Service announces the proposed continuation of a public information collection affecting cleared Department of Defense contractors and seeks public comments on the provision thereof. Comments are invited on: (a) Whether the proposed collection of information is necessary for the proper performance of the functions of the agency, including whether the information shall have practical utility; (b) the accuracy of the agency's estimate of the burden of the proposed information collection, (c) ways to enhance the quality, utility, and clarity of the information to be collected; and (d) ways to minimize the burden of the information collection on respondents, including through the use of automated collection techniques or other forms of information technology.

DATES: Consideration will be given to all comments received by November 24, 2000.

ADDRESSES: Written comments and recommendations on the proposed information collection should be sent to: Defense Industrial Security Clearance Office (DISCO), ATTN: Mr. James O'Heron, Deputy Director, P.O. Box 2499, Columbus, OH 43216-5006.

FOR FURTHER INFORMATION CONTACT: To request more information on this proposed information collection or to obtain a copy of the proposal and associated collection instrument, please write to the above address, or call DISCO at (614) 692-2133/34.

Title, Associated Form, and OMB Number: Personal Security Clearance Change Notification; DISCO Form 562; 0704-[To Be Determined].

Type of Request: New Collection.

Needs and Uses: DISCO Form 562 is used by contractors participating in the National Industrial Security Program to report various changes in employee personnel clearance status or identification information, e.g., reinstatements, conversions, terminations, changes in name or other previously submitted information.

Affected Public: Business or Other For-Profit; Not-For-Profit Institutions.

Annual Burden Hours: 45,816.

Number of Respondents: 11,454.

Responses Per Respondent: 20.

Average Burden Per Response: 12 minutes.

Frequency: On Occasion.

SUPPLEMENTARY INFORMATION:

Summary of Information Collection

The execution of the DISCO FORM 562 is a factor in making a determination as to whether a contractor employee is eligible to have a security clearance. These requirements are necessary in order to preserve and maintain the security of the United States through establishing standards to prevent the improper disclosure of classified information.

Dated: September 19, 2000.
Patricia L. Toppings,
Alternate OSD Federal Register, Liaison Officer, Department of Defense.

[FR Doc. 00-24494 Filed 9-22-00; 8:45 am]

BILLING CODE 5001-10-M